DEPARTMENT OF COMMERCE

National Oceanic and Atmospheric Administration

RIN 0648-XF619

Endangered Species; File No. 21169

AGENCY: National Marine Fisheries Service (NMFS), National Oceanic and Atmospheric Administration (NOAA), Commerce.

ACTION: Notice; receipt of application.

SUMMARY: Notice is hereby given that Inwater Research Group, Inc. [Responsible Party: Michael Bresette], 4160 NE Hyline Drive, Jensen Beach, FL 34957, has applied in due form for a permit to take green (Chelonia mydas), hawksbill (Eretmochelys imbricata), Kemp's ridley (Lepidochelys kempii), and loggerhead (Caretta caretta) sea turtles for purposes of scientific research.

DATES: Written, telefaxed, or email comments must be received on or before October 13, 2017.

ADDRESSES: The application and related documents are available for review by selecting “Records Open for Public Comment” from the “Features” box on the Applications and Permits for Protected Species (APPS) home page, https://apps.nmfs.noaa.gov, and then selecting File No. 21169 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Erin Markin or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

Inwater Research Group, Inc., proposes to continue long-term monitoring on habitat preference, species abundance, size frequencies, and disease prevalence in sea turtles in the Key West National Wildlife Refuge, Big Bend region, and coastal and offshore waters of Monroe, Citrus, and Dixie Counties, Florida. Annually, up to 2,432 green, 749 hawksbill, 560 Kemp's ridley, and 500 loggerhead sea turtles would be pursued by vessel for the purpose of species identification and capture using hand capture or dip nets. Of the animals pursued by vessel, annually, up to 350 green, 105 hawksbill, 230 Kemp's ridley, and 225 loggerhead sea turtles would be captured for collection of morphometric data, biological samples, and tagging (flipper and passive integrated transponder). Of the animals pursued by vessel, up to 50 green, 25 hawksbill, 25 Kemp's ridley, and 50 loggerhead sea turtles would be captured for morphometric data, biological samples and instrument attachment (acoustic and/or satellite transmitters), annually. In addition, up to 50 green, 25 hawksbill, 50 Kemp's ridley, and 25 loggerhead neonate sea turtles would be captured, annually, for collection of morphometric data, biological samples, and tagging (flipper and passive integrated transponder). The permit would be valid for up to ten years from the date of issuance.

Dated: September 8, 2017.
Julia Harrison,
Chief, Permits and Conservation Division, Office of Protected Resources, National Marine Fisheries Service.

[FR Doc. 2017-19395 Filed 9-12-17; 8:45 am]

BILLING CODE 3510-22-P